DEPARTMENT OF THE INTERIOR

Bureau of Land Management

[OR110-6333-DQ, HAG03-0046]

Notice of Availability of the Kelsey Whisky Landscape Management Plan, Proposed Amendments to the Medford Resource Management Plan, and Final Environmental Impact Statement

AGENCY: Bureau of Land Management, Interior.

ACTION: Notice of Availability of the Kelsey Whisky Landscape Management Plan (LMP), Proposed Amendments to the Medford Resource Management Plan (RMPA), and Final Environmental Impact Statement (EIS).

SUMMARY: In accordance with section 202 of the National Environmental Policy Act of 1969, a Final EIS has been prepared for the Glendale Resource Area, Kelsey Whisky LMP, and Proposed Amendments to the Medford RMP. The analysis area encompasses approximately 104,000 acres of public land managed by the Glendale Resource Area, Medford District and located in Josephine, Douglas and Curry counties in southwestern Oregon. The Final EIS was completed after extensive collaboration between Bureau staff and interested parties to ensure the proposed management decisions meet agency responsibilities with relation to the resource management issues identified and reflect public input.

DATES: Written comments on the implementation portion of the RMPA/LMP will be accepted for 30 days following the date the notice is published in the Federal Register.

Documents referenced in this final EIS may be examined at the Medford District Office during normal working hours. Comments must be received on or before the end of the comment period at the address listed below. Written protests on the Final EIS will be accepted if postmarked within 30 calendar days from the date that a Notice of Availability is published in the Federal Register by the Environmental Protection Agency. Instructions for filing protests are included below under Supplemental Information.

No public meetings, open houses or field tours of the project area have been scheduled at this time. If there is sufficient public interest, public meetings will be arranged to discuss the management alternatives and answer questions. At least 15 days public notice will be given for activities where the public is invited to attend. All meetings will be published on the Medford District planning Web site at http://www.or.blm.gov/Medford/planning/Medplanningdocs.html; meeting notices can also be found in the Grant's Pass Courier and Umpqua Free Press newspapers.

ADDRESSES: Written protests must be filed at the following address: Director (210), Bureau of Land Management, Attention: Brenda Williams, PO Box 66538, Washington, DC 20035. In addition, you may use the overnight address (FedEx or USPS) as an option for next day delivery: Director (210), Bureau of Land Management, Attention: Brenda Williams, 1620 L Street, NW., Suite 1075, Washington, DC 20036. Although not a requirement, we suggest that you send your protest by certified mail, return receipt requested.

Written comments should be sent to Lynda L. Boody, Field Manager, Glendale Field Office, Bureau of Land Management, 3040 Biddle Road, Medford, Oregon, 97504, (541) 618-2279, or fax to (541) 618-2400, or e-mail to 110mb@or.blm.gov.

Comments, including names and addresses of those who comment, will be available for public review. Individual respondents may request confidentiality. If you wish to withhold your name and/or address from public review or from disclosure under the Freedom of Information Act, you must state this prominently at the beginning of your written comment. Such requests will be honored to the extent allowed by law. All submissions from organizations or businesses and from individuals identifying themselves as representatives or officials of organizations or businesses will be made available for public inspection in their entirety.

FOR FURTHER INFORMATION CONTACT: Lynda L. Boody, Field Manager, Glendale Field Office, Bureau of Land Management, Medford District Office, 3040 Biddle Road, Medford, Oregon, 97504, (541) 618-2279.

SUPPLEMENTARY INFORMATION: Single copies of the document are available at the Medford District Office. Single copies will also be available for inspection during normal working hours at the Oregon State Office, Public Room, 333 SW., 1st Avenue, Portland, Oregon, 97204. The document may also be reviewed on the Medford District planning Web site at http://www.or.blm.gov/Medford/planning/Medplanningdocs.html. The public has the opportunity to protest the proposed RMP amendment components, as described in the Final EIS. The BLM planning regulations, 43 CFR 1610.5-2, state that any person who participated in the planning process and has an interest which may be adversely affected, may protest. A protest may only raise those issues that were submitted for the record during the planning process. The BLM will make its decisions after review of protests (if any).

To be considered complete, your protest must contain, at a minimum, the following information:

• Name, mailing address, telephone number and the affected interest of the person filing the protest(s).

• A statement of the issue (or issues) being protested.

• A statement of the part (or parts) of the proposed plan amendment being protested. To the extent possible, reference specific pages, paragraphs and sections of the document.

• A copy of all your documents addressing the issue (or issues) which were discussed with BLM for the record.

• A concise statement explaining why the proposed decision is believed to be incorrect. This is the critical part of your protest. Document all relevant facts, as much as possible, referencing or citing the planning and environmental analysis documents. A protest that merely expresses disagreement with State Director's proposed decisions without any data will not provide us with the benefit of your information and insight. In this case, the Director's review will be based on the existing analysis and supporting data.

Since this plan is a combination of RMP amendments and subordinate implementation or activity plans, the planning protest provision only applies to the proposed amendments and related findings. The subordinate actions, such as forest health treatments and individual timber sales will be subject to applicable administrative review and appeal provisions at later dates. The planning protest process does not provide for consideration of objections to those actions at this time.

The FEIS analyzes three action alternatives and a no-action alternative, each developed with differing emphasis. The alternatives were designed to address, in different ways, the land and resource management issues identified in the early stages of the planning process. The range of management actions includes timber harvest of anywhere from 3.1 to 11.9 million board feet (MMBF), 5,000-6,000 acres of fuel hazard reduction treatments, restoration activities, road decommissioning, water source enhancement projects, and other land management direction. Public participation has occurred throughout the planning process. Public comments were solicited during scoping and through a 90 day comment period for the draft EIS. The comments were analyzed and utilized where applicable to clarify and strengthen the FEIS.

Dated: December 30, 2002.
Mary Smelcer,
Acting District Manager, Medford District Office.

[FR Doc. 03-3372 Filed 2-10-03; 8:45 am]

BILLING CODE 4310-33-P